NATIONAL AERONAUTICS AND SPACE ADMINISTRATION

[Notice 01-064]

Information Collection: Submission for OMB Review, Comment Request

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information is required to monitor contract compliance in support of NASA's mission and in response to procurement requirements.

DATES: Comments on this proposal should be received on or before July 2, 2001.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Reports: None.

Title: Patents, Data and Copyrights, NASA FAR Supplement, Part 1827.

OMB Number: 2700-0052.

Type of review: Extension.

Need and Uses: The information is used by NASA legal and contracting offices to ensure disposition of inventions in accordance with statutes and to determine the Government's rights in data. Collection is prescribed in the NASA Federal Acquisition Regulation Supplement, Part 1827, Patents, Data and Copyrights (48 CFR Part 1827.)

Affected Public: Business or other for-profit; not-for-profit institutions; Federal Government; State, Local or Tribal Government.

Number of Respondents: 1,988.

Responses Per Respondent: 1.2.

Annual Responses: 2,386.

Hours Per Request: 30 minutes to 8 hours.

Annual Burden Hours: 7,276.

Frequency of Report: Annually; Biennially; Other (Per Contract).

Andrea T. Norris,
Deputy Chief Information Officer, Office of the Administrator.

[FR Doc. 01-13620 Filed 5-30-01; 8:45 am]

BILLING CODE 7510-01-U